DEPARTMENT OF THE INTERIOR

Bureau of Land Management

[CA-169-1220-AL]

Notice of Public Meeting, Carrizo Plain National Monument Advisory Committee

SUMMARY: In accordance with Federal Land Policy and Management Act of 1976 (FLPMA), the Federal Advisory Committee Act of 1972 (FACA), the National Environmental Policy Act of 1969 (NEPA), and the Code of Federal Regulations (40 CFR 1501.7, 43 CFR 1610.2), the United States Department of the Interior, Bureau of Land Management (BLM), Carrizo Plain National Monument Advisory Committee will meet as indicated below:

DATES: The meeting will be held on Saturday, September 22, 2007, at the Carissa Plain Elementary School, located approximately 2 miles northwest of Soda Lake Road on Highway 58. The meeting will begin at 10 a.m. and finish at 5 p.m. The meeting will focus on draft alternatives for the Resource Management Plan/Environmental Impact Statement being developed for the Carrizo Plain National Monument. There will be a public comment period from 3 p.m. to 4 p.m. Lunch will be available for $8.

SUPPLEMENTARY INFORMATION: The nine-member Carrizo Plain National Monument Advisory Committee advises the Secretary of the Interior, through the Bureau of Land Management, on a variety of public land issues associated with the public land management in the Carrizo Plain National Monument in Central California. At this meeting, Monument staff will present updated information on the progress on the draft Carrizo Plain National Monument Resource Management Plan and the Environmental Impact Statement (RMP/EIS). Draft alternatives being developed by the Carrizo Managing Partners—BLM, the California Department of Fish and Game and The Nature Conservancy—will be the focus of this meeting. This meeting is open to the public. Depending on the number of persons wishing to comment, and the time available, the time allotted for individual oral comments may be limited. Individuals who plan to attend and need special assistance such as sign language interpretation or other reasonable accommodations should contact BLM as indicated below.

FOR FURTHER INFORMATION CONTACT: Bureau of Land Management, Attention: Johna Hurl, Acting Monument Manager, 3801 Pegasus Drive, Bakersfield, CA 93308. Phone at (661) 391-6093 or e-mail: jhurl@blm.gov.

Dated: August 14, 2007.
David Christy,
Public Affairs Officer.

[FR Doc. E7-16293 Filed 8-17-07; 8:45 am]

BILLING CODE 4310-40-P